DEPARTMENT OF LABOR

Employment and Training Administration

[TA-W-54,202]

Finishes First, Inc., Spruce Pine, North Carolina; Notice of Termination of Investigation

Pursuant to section 221 of the Trade Act of 1974, as amended, an investigation was initiated on February 9, 2004 in response to a worker petition filed by a company official on behalf of workers at Finishes First, Inc., Spruce Pine, North Carolina.

The petitioner has requested that the petition be withdrawn. Consequently, the investigation has been terminated.

Signed at Washington, DC, this 11th day of February, 2004.
Elliott S. Kushner,
Certifying Officer, Division of Trade Adjustment Assistance.

[FR Doc. 04-3922 Filed 2-23-04; 8:45 am]

BILLING CODE 4510-30-P